DEPARTMENT OF LABOR

Occupational Safety and Health Administration

29 CFR Part 1904

[Docket No. OSHA-2013-0023]

RIN 1218-AC49

Improve Tracking of Workplace Injuries and Illnesses

AGENCY: Occupational Safety and Health Administration (OSHA), Labor.

ACTION: Proposed rule; extension of comment period.

SUMMARY: OSHA is extending the comment period on the proposed rule entitled, “Improve Tracking of Workplace Injuries and Illnesses,” which would amend the recordkeeping regulations to add requirements for the electronic submission of injury and illness records employers are already required to keep under OSHA's regulations for recording and reporting occupational injuries and illnesses.

DATES: The comment period for the proposed rule published November 8, 2013, at 78 FR 67254, is extended. Comments must be submitted (postmarked, sent or received) by March 8, 2014.

ADDRESSES: You may submit comments, identified by Docket No. OSHA-2013-0023, by any one of the following methods:

Electronically: You may submit comments and attachments electronically at http://www.regulations.gov, the Federal eRulemaking Portal. Follow the instructions on-line for making electronic submissions.

Fax: If your comments, including attachments, do not exceed 10 pages, you may fax them to the OSHA Docket Office at (202) 693-1648.

Mail, hand delivery, express mail, messenger or courier service: You must submit three copies of your comments and attachments to the OSHA Docket Office, Docket No. OSHA-2013-0023, U.S. Department of Labor, Room N-2625, 200 Constitution Avenue NW., Washington, DC 20210; telephone (202) 693-2350 (OSHA's TTY number is (877) 889-5627). Deliveries (hand, express mail, messenger, and courier service) are accepted during the Department of Labor's and Docket Office's normal business hours, 8:15 a.m.-4:45 p.m., e.t.

Instructions: All submission must include the docket number (Docket No. OSHA-2013-0023) or RIN number (RIN 1218-AC49) for this rulemaking. Because of security-related procedures, submission by regular mail may result in significant delay. Please contact the OSHA Docket Office about security procedures for hand delivery, express delivery, messenger or courier.

All comments, including any personal information you provide, are placed in the public docket without change and may be made available on http://www.regulations.gov. Therefore, OSHA cautions you about submitting personal information such as social security numbers and birthdates.

Docket: To read or download submissions in response to the proposed rule, go to Docket No. OSHA-2013-0023 at: http://www.regulations.gov. All submissions are listed in the http://www.regulations.gov index, however, some information (e.g., copyrighted material) is not publicly available to read or download through that Web page. All submissions, including copyrighted material, are available for inspections and copying at the OSHA Docket Office.

Electronic copies of this Federal Register document are available at http://www.regulations.gov. This document, as well as news releases and other relevant information, also are available at OSHA's Web page at http://www.osha.gov.

FOR FURTHER INFORMATION CONTACT: Press inquiries: Frank Meilinger, Director, OSHA, Office of Communications, Room N-3647, U.S. Department of Labor, 200 Constitution Avenue NW., Washington, DC 20210; telephone (202) 693-1999; email: meilinger.francis2@dol.gov.

For general and technical information: Miriam Schoenbaum, OSHA Office of Statistical Analysis, Room N-3507, U.S. Department of Labor, 200 Constitution Avenue NW., Washington, DC 20210; telephone (202) 693-1841; email: schoenbaum.miriam@dol.gov.

SUPPLEMENTARY INFORMATION:

On November 8, 2013, OSHA published a proposed rule to revise its regulation on Occupational Injury and Illness Recording and Reporting (Recordkeeping) (78 FR 67254). The proposal would amend the recordkeeping regulations to add requirements for the electronic submission of injury and illness information employers are already required to keep under OSHA's regulations for recording and reporting occupational injuries and illnesses. The proposal set a February 6, 2014 deadline for submitting written comments.

OSHA has received a request from the National Association of Home Builders (NAHB) to extend the comment period an additional 90 days. NAHB's reasons for requesting an extension include the overlap with the proposed crystalline silica rulemaking, which will also affect the construction industry. Further, the request stated that informing home builders and coordinating their responses will take time and effort beyond the 90 days provided.

OSHA has decided to extend the deadline for submitting comments to March 8, 2014, which provides stakeholders an additional 30 days. The extension ensures that stakeholders will have a full 120 days to submit comments, which OSHA believes is adequate for this limited rulemaking. The extension also ensures that stakeholders who attend the January 9, 2014, public meeting on the proposed rule will have an opportunity to incorporate into their comments their views on relevant information presented at the meeting.

Authority and Signature

This document was prepared under the direction of David Michaels, Ph.D., MPH, Assistant Secretary of Labor for Occupational Safety and Health. It is issued under the authority of Sections 8 and 24 of the Occupational Safety and Health Act of 1970 (29 U.S.C. 657, 673), 5 U.S.C. 553, and Secretary of Labor's Order No. 41-2012 (77 FR 3912).

Signed at Washington, DC, on January 2, 2014.
David Michaels,
Assistant Secretary of Labor for Occupational Safety and Health.

[FR Doc. 2014-00010 Filed 1-6-14; 8:45 am]

BILLING CODE 4510-26-P